DEPARTMENT OF TRANSPORTATION

Federal Aviation Administration

Policy Statement No. ANM-03-115-38: Use of Surrogate Parts When Evaluating Seatbacks and Seatback Mounted Accessories for Compliance With §§ 25.562(c)(5) and 25.785(b) and (d)

AGENCY: Federal Aviation Administration (FAA), DOT.

ACTION: Notice of proposed policy; request for comments.

SUMMARY: The Federal Aviation Administration (FAA) announces the availability of proposed policy on the use of surrogate parts when evaluating seatbacks and seatback mount accessories for compliance with 14 CFR 25.562(c)(5) and 25.785(b) and (d).

DATES: Send your comments on or before August 7, 2003.

ADDRESSES: Send your comments to the individual identified under FOR FURTHER INFORMATION CONTACT.

FOR FURTHER INFORMATION CONTACT: Michael T. Thompson, Federal Aviation Administration, Transport Airplane Directorate, Transport Standards Staff, Airframe and Cabin Safety Branch, ANM-115, 1601 Lind Avenue, SW., Renton, WA 98055-4056; telephone (425) 227-1157; fax (425) 227-1149; e-mail: michael.t.thompson@faa.gov.

SUPPLEMENTARY INFORMATION:

Comments Invited

The proposed policy is available on the Internet at the following address: http://www.airweb.faa.gov/rgl. If you do not have access to the Internet, you can obtain a copy of the policy by contacting the person listed under FOR FURTHER INFORMATION CONTACT.

The FAA invites your comments on this proposed policy. We will accept your comments, data, views, or arguments by letter, fax, or e-mail. Send your comments to the person indicated in FOR FURTHER INFORMATION CONTACT. Mark your comments, “Comments to Policy Statement No. ANM-03-115-28.”

Use the following format when preparing your comments:

• Organize your comments issue-by-issue.

• For each issue, state what specific change your are requesting to the proposed policy.

Include justification, reasons, or data for each change you are requesting.

We also welcome comments in support of the proposed policy.

We will consider all communications received on or before the closing date for comments. We may change the proposed policy because of the comments received.

Background

The proposed policy will streamline the seat certification process by providing Federal Aviation Administration certification policy on using surrogate test articles in lieu of actual production seatback mounted accessories (e.g., video monitor, telephone) during blunt trauma tests in accordance with §§ 25.562(c)(5) and 25.785(b) and (d). The policy also provides acceptable methods of demonstrating the sharp, inurious edges would not be formed by a head impact against the actual production accessory since this evaluation would not be accomplished from a test that uses a surrogate part.

Issued in Renton, Washington, on Jun. 23, 2003.
Ali Bahrami,
Acting Manager, Transport Airplane Directorate, Aircraft Certification Service.

[FR Doc. 03-17115 Filed 7-7-03; 8:45 am]

BILLING CODE 4910-13-M